DEPARTMENT OF AGRICULTURE

Farm Service Agency

[Docket ID FSA-2020-0006]

Information Collection Request; Coronavirus Food Assistance Program

AGENCY: Farm Service Agency, U.S. Department of Agriculture (USDA).

ACTION: Notice; request for comments.

SUMMARY: In accordance with the Paperwork Reduction Act of 1995, FSA is requesting comments from interested individuals and organizations on a revision and extension of a currently approved information collection request associated with the Coronavirus Food Assistance Program (CFAP 2.0). The initial notice for this information collection request was published on April 2, 2021. The burden hours from the previously approved OMB information collection request are to be increased in this request to account for new CFAP payments for contract growers and sod and pullet producers.

DATES: We will consider comments that we receive by July 27, 2021.

ADDRESSES: We invite you to submit comments on this notice. You may submit comments by any of the following methods:

• Federal eRulemaking Portal: Go to: www.regulations.gov and search for Docket ID FSA-2020-0006. Follow the online instructions for submitting comments.

• Mail, Hand-Delivery, or Courier: Director, SND, FSA, US Department of Agriculture, 1400 Independence Avenue SW, Stop 0522, Washington, DC 20250-0522. In your comment, specify the docket ID FS-2020-0006.

You may also send comments to the Desk Officer for Agriculture, Office of Information and Regulatory Affairs, Office of Management and Budget, Washington, DC 20503. Comments will be available for inspection online at http://www.regulations.gov. Copies of the information collection may be requested by contacting Brittany Ramsburg at the above address.

FURTHER INFORMATION CONTACT: For specific questions related to collection activities, contact Ms. Brittany Ramsburg at (202) 260-9303 (voice); or, by email at: BrittanyRamsburg@usda.gov. Persons with disabilities who require alternative means for communication should contact the USDA Target Center at (202) 720-2600 (voice).

SUPPLEMENTARY INFORMATION: Title: CPAP 2.0.

OMB Control Number: 0560-0297.

Type of Request: Revision.

Abstract: This information collection is required to support CFAP 2.0 information collection activities to provide payments to eligible producers who, with respect to their agricultural commodities, have been impacted by the effects of the COVID-19 pandemic. The information collection is necessary to evaluate the application and other required paperwork for determining the producer's eligibility and assist in the producer's payment calculations. Producers must submit a completed CFAP 2 application and additional documentation for eligibility, such as certifications of compliance with adjusted gross income provisions and conservation compliance activities; those additional documents and forms must be submitted no later than 60 days from the date a producer signs the application.

The annual burden hours increased by 65,281 in this collection because FSA estimated additional burden hours to account for the new CFAP payments for contract growers and sod and pullet producers that was previously approved under the OMB control number of 0560-0299. The initial notice for OMB 0560-0297 information collection request was published on April 2, 2020, (89 FR 17351); this notice needs to be published to include the added burden hours as indicated in the above.

For the following estimated total annual burden on respondents, the formula used to calculate the total burden hour is the estimated average time per response multiplied by the estimated total annual responses.

Public reporting burden for this information collection is estimated to include the time for reviewing instructions, searching existing data sources, gathering and maintaining the data needed and completing and reviewing the collections of information.

Type of Respondents: Producers or farmers.

Estimated Annual Number of Respondents: 1,248,901.

Estimated Number of Responses per Respondent: 1.

Estimated Total Annual Responses: 1,248,901.

Estimated Average Time per Response: 0.741492 hours.

Estimated Total Annual Burden on Respondents: 926,051 hours.

FSA is requesting comments on all aspects of this information collection to help us to:

(1) Evaluate whether the collection of information is necessary for the proper performance of the functions of FSA, including whether the information will have practical utility;

(2) Evaluate the accuracy of the FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All comments received in response to this document, including names and addresses when provided, will be a matter of public record. Comments will be summarized and included in the submission for Office of Management and Budget approval.

Zach Ducheneaux,
Administrator, Farm Service Agency.

[FR Doc. 2021-11296 Filed 5-27-21; 8:45 am]

BILLING CODE 3410-05-P